DEPARTMENT OF HEALTH AND HUMAN SERVICES

Administration for Children and Families

Proposed Information Collection Activity; Release of Unaccompanied Alien Children From ORR Custody (OMB #0970-0552)

AGENCY: Office of Refugee Resettlement; Administration for Children and Families; Department of Health and Human Services.

ACTION: Request for public comment.

SUMMARY: The Office of Refugee Resettlement (ORR), Administration for Children and Families (ACF), U.S. Department of Health and Human Services (HHS), is inviting public comments on revisions to an approved information collection. The request consists of several forms that allow the Unaccompanied Alien Children (UAC) Program to process release of UAC from ORR custody and provide services after release.

DATES: Comments due within 60 days of publication. In compliance with the requirements of section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: ORR plans to revise all four instruments currently approved under OMB #0970-0552 and reinstate one instrument previously approved under OMB #0970-0498 and add it to this collection. All instruments will be incorporated into ORR's new case management system, UAC Path.

1. Verification of Release (Form R-1): This instrument is an official document provided to UAC and their sponsors by care provider facilities showing that ORR released the UAC into the sponsor's care and custody. This form was previously approved under OMB Number 0970-0498 and is being reinstated with formatting changes under this new OMB number. No changes were made to the content. The average burden minutes per response was increased from 3 to 10 minutes.

2. Discharge Notification (Form R-2): This instrument is used by care provider facilities to notify stakeholders of the transfer of a UAC to another care provider facility or the release of a UAC from ORR custody. ORR made the following revisions:

a. The “Proof of Relationship” field was removed because that information is found elsewhere in UAC Path and does not need to be displayed in this instrument.

b. The following fields were added: “Returning UAC, Entry #,” “Type of Age Out,” “Sponsor Category,” “Next Immigration Hearing,” “Granted Voluntary Discharge Date,” “Parent/Legal Guardian Separation,” “Is this a MPP Case,” “UAC Parent Name,” “Program Type.”

c. The “Local Law Enforcement” and “DHS Family Shelter” fields were replaced with the “Governmental Agency” and “Name of Government Agency” fields.

d. The following fields were added, but are not visible on version of the instrument sent to stakeholders:

i. “Discharge Delay,” “DHS Age Out Plan,” “Referral to Services in COO,” “Completed Referral Services COO?,” “Date Travel Document Requested,” “Date of Issuance of Travel Document.”

ii. All fields in the “Transportation Details” section

3. ORR Release Notification—Notice to Immigration and Customs Enforcement (ICE) Chief Counsel—Release of Unaccompanied Alien Child to Sponsor and Request to Change Address (Form R-3): This instrument is used by care provider facilities to notify ICE Chief Counsel of the release of a UAC and request a change of address. The instrument was reformatted. No changes were made to the content.

4. Release Request (Form R-4): This instrument is used by care provider facilities, ORR contractor staff, and ORR federal staff, to process recommendations and decisions for release of a UAC from ORR custody. ORR made the following revisions:

a. The instrument was reformatted and the titles of some fields were reworded.

b. Several fields containing biographical information for the UAC were removed from the top of the instrument.

c. The “Provide details on relationship including official documentation” text box was removed because that information is easily accessible elsewhere in UAC Path.

d. Several fields related to release dates and immigration court appearance were removed because they are easily accessible elsewhere in UAC Path.

e. A new section called “Release Request Routing” was added to facilitate automated notification of pending releases within UAC Path. Some fields in this section are auto-populated.

f. A new “Child Advocates” section was added, containing two fields.

g. A new “Medical” section was added to facilitate automated notification to the ORR medical coordinator, when applicable. The section contains two fields.

h. A new “Legal” section was added. All fields in this section are auto-populated with the exception of the comments field.

i. A new “Program Information” section was added to capture relevant details when a UAC is being release to a program/entity.

j. In the “Case Manager Recommendation” section, a couple of auto-populated date fields were added.

5. Safety and Well-Being Call (Form R-6): This instrument is used by care provider facilities to document the outcome of calls made to UAC and their sponsors after release to ensure the child is safe and refer the sponsor to additional resources as needed. Currently, case managers document responses from the sponsor and UAC interview questions (required per ORR procedures) in their case management notes. ORR expanded this instrument to include the information currently captured in case management notes, in addition to the information captured in the current version of the Safety and Well-Being Follow-Up Call Report. The average burden minutes per response was increased from 30 to 45 minutes.

Respondents: ORR grantee and contractor staff; and released children and sponsors.

Annual Burden Estimates
Instrument | Annual number of respondents | Annual number of responses per respondent | Average burden minutes per response | Annual total burden hours
Verification of Release (Form R-1) | 216 | 253 | 10 | 9,108
Discharge Notification (Form R-2) | 216 | 290 | 10 | 10,440
ORR Release Notification—ORR Notification to ICE Chief Counsel Release of UAC to Sponsor and Request to Change Address (Form R-3) | 216 | 270 | 5 | 4,860
Release Request (Form R-4)—Grantee Case Managers | 216 | 254 | 25 | 22,860
Release Request (Form R-4)- Contractor Case Coordinators | 170 | 321 | 20 | 18,190
Safety and Well-Being Call (R-6) | 216 | 253 | 45 | 40,986
Estimated Annual Burden Hours Total |  |  |  | 106,444

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2021-03898 Filed 2-24-21; 8:45 am]

BILLING CODE 4184-45-P